DEPARTMENT OF HEALTH AND HUMAN SERVICES

Substance Abuse and Mental Health Services Administration (SAMHSA)

Notice of a Meeting

Pursuant to Pub. L. 92-463, notice is hereby given of a meeting of the Substance Abuse and Mental Health Services Administration (SAMHSA) National Advisory Council in June 2005.

The SAMHSA National Advisory Council will meet in an open session June 27 from 9 a.m. to 12:15 p.m., in San Diego, California. The meeting will include the SAMHSA Administrator's Report, discussions concerning issues on SAMHSA's appropriation and budget, and discussions on current administrative, legislative and program developments. The SAMHSA Council meeting will coincide with the Indian Health Services/SAMHSA Behavioral Health Conference which will be held on June 28 through June 30 in San Diego.

Attendance by the public at the SAMHSA Council meeting will be limited to space available. Public comments are welcome. Please communicate with the individual listed as contact below to make arrangements to comment or to request special accommodations for persons with disabilities.

Substantive program information, a summary of the meeting, and a roster of Council members may be obtained as soon as possible after the meeting, either by accessing the SAMHSA Council Web site, http://www.samhsa.gov/council/council, or by communicating with the contact whose name and telephone number are listed below. The transcript for the meeting will also be available on the SAMHSA Council Web site within three weeks after the meeting.

Committee Name: Substance Abuse and Mental Health Services Administration National Advisory Council.

Date/Time: Monday, June 27, 2005, 9 a.m. to 12:15 p.m. (Open).

Place: Hyatt Regency Islandia Hotel and Marina, Islands Ballroom, 1441 Quivira Road, San Diego, California 92109.

Contact: Toian Vaughn, Executive Secretary, 1 Choke Cherry Road, Room 8-1089, Rockville, Maryland 20857, Telephone: (240) 276-2307; FAX: (240) 276-2252 and E-mail: toian.vaughn@samhsa.hhs.gov.

Dated: May 5, 2005.
Toian Vaughn,
Committee Management Officer, SAMHSA.

[FR Doc. 05-9376 Filed 5-10-05; 8:45 am]

BILLING CODE 4162-20-P